Proclamation 7779 of April 30, 2004

Loyalty Day, 2004

By the President of the United States of America

A Proclamation

As Americans, we work to preserve the freedom declared by our Founding Fathers, defended by generations, and granted to every man and woman on Earth by the Almighty. On Loyalty Day, we are reminded that we are citizens with obligations to our country, to each other, and to our great legacy of freedom and democracy.

We learn lessons of loyalty from the selfless dedication and unwavering allegiance of our men and women in uniform. We are grateful for their courage and willingness to sacrifice for our country, and we stand united behind them. Through the “On the Homefront” program, a USA Freedom Corps initiative, many Americans are writing to service members, contributing to the purchase of care packages to be sent overseas, and helping the families of those deployed with basic family needs such as home repairs, financial planning, and child care. By supporting our troops and their families, citizens are making a difference in their communities and showing loyalty to our country through their patriotism.

America's citizens are also demonstrating their loyalty to our Nation through volunteer service. In answering the call to serve something greater than self, Americans reflect the compassion and decency that make our country great. Through the USA Freedom Corps, my Administration is providing information about volunteer opportunities to Americans so they can give back to their communities and help their fellow citizens in need. The hard work and generosity of America's volunteers help build a culture of service and responsible citizenship that strengthens America and sets a positive example for future generations.

Over the past few years, America has once again witnessed the loyalty and character of our citizens. We must continue to ensure that our young people know the great cause of freedom and why it is worth defending. Our Founders believed the study of history and citizenship should be at the core of every American's education. By encouraging students to learn more about American history and values, we can help prepare the next generation of Americans to carry our heritage of freedom into the future. To further this goal, my Administration has created initiatives such as “We the People” and “Our Documents” to help bring the stories and documents central to our history into the modern classroom.

Loyalty Day encourages citizens to demonstrate their commitment to our country by supporting our military, serving each other, and teaching our young people about our history and values. Being an American is a privilege, and our patriotism is a living faith in our country's founding ideals and the promise of the American Dream.

The Congress, by Public Law 85-529, as amended, has designated May 1 of each year as “Loyalty Day,” and I ask all Americans to join me in this day of celebration and in reaffirming our allegiance to our Nation.

NOW, THEREFORE, I, GEORGE W. BUSH, President of the United States of America, do hereby proclaim May 1, 2004, as Loyalty Day. I call upon all the people of the United States to join in support of this national observance. I also call upon government officials to display the flag of the United States on all government buildings on Loyalty Day.

IN WITNESS WHEREOF, I have hereunto set my hand this thirtieth day of April, in the year of our Lord two thousand four, and of the Independence of the United States of America the two hundred and twenty-eighth.

B

[FR Doc. 04-10369

Filed 5-4-04; 8:45 am]

Billing code 3195-01-P